DEPARTMENT OF AGRICULTURE

Office of the Chief Economist; Public Comment Period for Climate Change, Global Food Security, and the U.S. Food System Assessment Report

AGENCY: Office of the Chief Economist, U.S. Department of Agriculture.

ACTION: Request for Public Comment on Climate Change, Global Food Security, and the U.S. Food System Assessment Report.

SUMMARY: The U.S. Department of Agriculture (USDA) has led the development of an interagency assessment report entitled “Climate Change, Global Food Security, and the U.S. Food System.” The report has been developed to support the National Climate Assessment of the U.S. Global Change Research Program, and is called for under the President's Climate Action Plan. USDA is requesting input from the public. This request is being published in the Federal Register for a 30-day public comment period. Public comments will be considered during the preparation of the final report. The final report will be published on USDA's Web site when it becomes available. Comments from the public will be accepted electronically via http://www.globalchange.gov/notices. Comments may be submitted only online and via this address; instructions for doing this are on the Web site.

DATES: Comments must be received by 11:59 p.m. Eastern Time on October 8, 2015 will be considered.

ADDRESSES: Comments from the public will be accepted electronically via http://www.globalchange.gov/notices. Comments may be submitted only online and via this address; instructions for doing this are on the Web site.

FOR FURTHER INFORMATION CONTACT: William Hohenstein, Director, USDA Climate Change Program Office, telephone: 202-720-9978, Email: whohenst@oce.usda.gov.

SUPPLEMENTARY INFORMATION: The public comment draft can be found online at www.globalchange.gov/notices. Only comments received through the online comment system (www.globalchange.gov/notices) will be considered.

All comments received will be considered by the report's authors and will become part of the public record once the final report is issued. However, until the report is finalized and released to the public, commenters' identities will not be shared with the authors. When the report is released in final form to the public, the comments, in association with the commenter's name, will be made available upon request. No additional information a commenter submits as part of the registration process (such as an email address) will be disclosed publicly.

The Department of Agriculture will publish a notice informing the public of the final report when it is issued.

Robert Johansson,
Chief Economist.

[FR Doc. 2015-22668 Filed 9-4-15; 8:45 am]

BILLING CODE 3410-38-P